DEPARTMENT OF THE INTERIOR

National Indian Gaming Commission

25 CFR Chapter III

Regulatory Review Schedule

AGENCY: National Indian Gaming Commission.

ACTION: Notice of cancellation of consultation meeting.

SUMMARY: The purpose of this document is to cancel ten tribal consultations scheduled during November 2011, December 2011, January 2012, and February 2012 and to modify the dates for six tribal consultations scheduled during September 2011, October 2011 and November 2011.

DATES: See SUPPLEMENTARY INFORMATION below for dates and locations of cancelled consultations.

FOR FURTHER INFORMATION CONTACT: Lael Echo-Hawk, National Indian Gaming Commission, 1441 L Street, NW., Suite 9100, Washington, DC 20005. Telephone: 202-632-7003; e-mail: reg.review@nigc.gov.

SUPPLEMENTARY INFORMATION: On November 18, 2010, the National Indian Gaming Commission (NIGC) issued a Notice of Inquiry and Notice of Consultation advising the public that it was conducting a review of its regulations promulgated to implement 25 U.S.C. 2701-2721 of the Indian Gaming Regulatory Act (IGRA) and requesting public comment on the process for conducting the regulatory review. On April 4, 2011, after holding eight consultations and reviewing all comments, NIGC published a Notice of Regulatory Review Schedule in the Federal Register setting out consultation schedules and review processes. (76 FR 18457, April 4, 2011).

The Commission's regulatory review process established a tribal consultation schedule with a description of the regulation groups to be covered during consultation.

Group 1 included a review of:

(a) A Buy Indian Act regulation;

(b) Part 523—Review and Approval of Existing Ordinances or Resolutions;

(c) Part 514—Fees;

(d) Part 559—Facility License Notifications, Renewals, and Submissions; and

(e) Part 542—Minimum Internal Control Standards.

Group 2 included a review of:

(a) Part 573—Enforcement; and

(b) Regulations concerning proceedings before the Commission, including: Parts 519—Service, Part 524—Appeals, Part 539—Appeals, and Part 577—Appeals Before the Commission.

Group 3 included a review of:

(a) Part 543—Minimum Internal Control Standards for Class II Gaming; and

(b) Part 547—Minimum Technical Standards for Gaming Equipment Used with the Play of Class II Games.

Group 4 included a review of:

(a) Part 556—Background Investigations for Primary Management Officials and Key Employees;

(b) Part 558—Gaming Licenses for Key Employees and Primary Management Officials;

(c) Part 571—Monitoring and Investigations;

(d) Part 531—Collateral Agreements;

(e) Part 537—Background Investigations for Persons or Entities With a Financial Interest in, or Having Management Responsibility for, a Management Contract; and

(f) Part 502—Definitions.

Group 5 included a review of:

(a) Part 518—Self Regulation of Class II Gaming;

(b) A Sole Proprietary Interest regulation; and

(c) Class III MICS.

The Commission has conducted 12 consultations since April 2011 and will continue consultations on the regulations, however, the Commission has removed Group 3 regulations (Class II MICS and Technical Standards) and Class III MICS from the current consultation schedule. A Tribal Advisory Committee will review those regulations during a separate meeting schedule. The Commission intends to consult with Tribes on Group 3 regulations and Class III MICS after completion of the Tribal Advisory Committee process.

This document advises the public that the following two day consultations have been changed to one day consultations.

Consultation date | Event | Location | Regulation group(s)
September 16, 2011 | National Tribal Gaming Commissioner/Regulator Association Fall Meeting | Chukchansi Gold Resort & Casino Coarsegold, CA | 1, 2, 4, 5
October 6, 2011 | G2E—National | Sands Expo and Convention Center Las Vegas, NV | 1, 2, 4, 5
November 3, 2011 | NCAI Annual Conference | Portland, OR | 1, 2, 4, 5
November 14, 2011 | NIGC Consultation | TBD, Great Plains Region | 1, 2, 4, 5
December 5, 2011 | NIGC Consultation | Clearwater Casino Resort Suquamish, WA | 1, 2, 4, 5
December 13, 2011 | NIGC Consultation | DOI South Auditorium Washington, DC | 1, 2, 4, 5

This document advises the public that the following 10 tribal consultation meetings have been cancelled.

Consultation date | Event | Location | Regulation group(s)
November 17-18, 2011 | NIGC Consultation | Fort McDowell Casino Scottsdale, AZ | 5
November 30-December 1, 2011 | NIGC Consultation | Quapaw Casino Miami, OK | 5
December 8-9, 2011 | NIGC Consultation | Turtle Creek Casino & Hotel Williamsburg, MI | 5
January 11-12, 2012 | NIGC Consultation | Wind Creek Casino Atmore, AL | 3
January 18-19, 2012 | NIGC Consultation | Crowne Plaza Billings, MT | 3
January 23-24, 2012 | NIGC Consultation | Win-River Casino Redding, CA | 3
January 26-27, 2012 | NIGC Consultation | 7 Feathers Casino Canyonville, OR | 3
January 30-31, 2012 | NIGC Consultation | Cherokee Hard Rock Tulsa, OK | 3
February 2-3, 2012 | NIGC Consultation | Isleta Hard Rock Casino Resort, Albuquerque, NM | 3
February 7-8, 2012 | NIGC Consultation | Radisson Hotel Rapid City, SD | 3

For additional information on consultation locations and times, please refer to the Web site of the National Indian Gaming Commission, http://www.nigc.gov.

Tracie L. Stevens,
Chairwoman.
Daniel J. Little,
Associate Commissioner.

[FR Doc. 2011-22445 Filed 8-31-11; 8:45 am]

BILLING CODE 7565-01-P